DEPARTMENT OF AGRICULTURE

Grain Inspection, Packers and Stockyards Administration

Proposed Posting, Posting, and Deposting of Stockyards

AGENCY: Grain Inspection, Packers and Stockyards Administration, USDA.

ACTION: Notice and request for comments.

SUMMARY: This notice announces several actions related to posting of stockyards; when required we physically post a sign providing public notice that the stockyard is subject to provisions of the Packers and Stockyards Act. We propose to post 10 stockyards. We have received information that these stockyards meet the definition of a stockyard under the Packers and Stockyards Act and, therefore, need to be posted. Posted stockyards are subject to the provisions of the Packers and Stockyards Act. In addition, we have posted 12 stockyards that were previously announced as proposed postings. We determined that the stockyards meet the definition of a stockyard under the Packers and Stockyards Act and, therefore, have been posted. Three other facilities, for which notices of proposed posting were announced, were not posted because they no longer meet the definition of a stockyard. These facilities were either abandoned or underwent a change so they no longer function as a stockyard. We are also deposting two stockyards. These facilities can no longer be used as stockyards and, therefore, are no longer required to be posted.

DATES: For the proposed posting of stockyards, we will consider comments that we receive by February 7, 2007.

For the deposted stockyards, the deposting is effective on January 23, 2007.

ADDRESSES: We invite you to submit comments on this notice. You may submit comments by any of the following methods:

• E-Mail: Send comments via electronic mail to comments.gipsa@usda.gov.

• Mail: Send hardcopy written comments to H. Tess Butler, GIPSA, USDA, 1400 Independence Avenue, SW., Room 1647-S, Washington, DC 20250-3604.

• Fax: Send comments by facsimile transmission to: (202) 690-2755.

• Hand Delivery or Courier: Deliver comments to: H. Tess Butler, GIPSA, USDA, 1400 Independence Avenue, SW., Room 1647-S, Washington, DC 20250-3604.

• Federal eRulemaking Portal: Go to http://www.regulations.gov. Follow the on-line instructions for submitting comments.

SUPPLEMENTARY INFORMATION: The Grain Inspection, Packers and Stockyards Administration (GIPSA) administers and enforces the Packers and Stockyards Act of 1921, (7 U.S.C. 181-229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302 (b) of the P&S Act requires the Secretary to determine which stockyards meet this definition, and to notify the owner of the stockyard and the public of that determination by posting a notice in each designated stockyard. After giving notice to the stockyard owner and to the public, the stockyard will be subject to the provisions of Title III of the P&S Act (7 U.S.C. 201-203 and 205-217a) until the Secretary deposts the stockyard by public notice.

This document notifies the stockyard owners and the public that the following 10 stockyards meet the definition of a stockyard and that we propose to designate these stockyards as posted stockyards.

Facility number | Stockyard name and location
AL-193 | Tim White d.b.a. 4/W Horse Sales, Huntsville, Alabama.
AL-194 | Coffee County Stockyard, LLC, New Brockton, Alabama.
AR-178 | B-B Livestock Auction & Sales, Inc., Beebe, Arkansas.
AR-179 | Buddy Guyot d.b.a. Beebe Livestock Auction, Beebe, Arkansas.
GA-230 | Frank Ray Harris d.b.a. Harris Goat 'N Sheep Auction, Taylorsville, Georgia.
KY-180 | Southern Kentucky Livestock Market, Inc., Rockfield, Kentucky.
KY-181 | Wigwam Livestock Market, Inc., Horse Cave, Kentucky.
MO-287 | Springfield Livestock Marketing Center, LLC, Springfield, Missouri.
PA-162 | John H. Wetmore, Honesdale, Pennsylvania.
SD-171 | SFRL, Inc., d.b.a. Sioux Falls Regional Livestock, Worthing, South Dakota.

This document also notifies the public that the following stockyards meet the definition of a stockyard and that we have posted the stockyards. We published notices proposing to post these 12 stockyards on August 25, 2003, July 6, 2004, July 25, 2005, and April 5, 2006 (68 FR 51005, 69 FR 40597-40598, 70 FR 42532-42533, and 71 FR 17071-17072, respectively). We received no comments in response to these proposed posting notices. To post a stockyard, we assign the stockyard a facility number, notify the owner of the stockyard facility, and send notices to the owner of the stockyard to post on display in public areas of the stockyard. The date of posting is the date on which the posting notices are physically displayed.

Facility number | Stockyard name and location | Date of posting
FL-139 | Arcadia Stockyard, Arcadia, Florida | May 3, 2006.
GA-228 | Triple R Ranch, Lavonia, Georgia | June 27, 2006.
GA-229 | Red Barn Livestock Auction, Inc., Sylvester, Georgia | August 22, 2006.
LA-147 | Hays Brothers Livestock Market, LLC, Arcadia, Louisiana | May 11, 2006
MO-286 | Miller County Regional Stockyards, Eldon, Missouri | May 23, 2006.
NC-177 | Cliffside Horse Auction, Mooresboro, North Carolina | October 6, 2006.
NY-174 | Woods Auction Service, Cincinnatus, New York | May 4, 2006.
PA-160 | Beach's Dairy Auction, Martinsburg, Pennsylvania | May 30, 2006.
PA-161 | Jonas Lee Fisher & Jacob B. Fisher d.b.a. Fisher's Quality Dairy Sales, Ronks, Pennsylvania | October 19, 2006.
TX-348 | Grimes County Stockyards, LLC, Navasota, Texas | May 8, 2006.
WI-148 | Milwaukee Stockyards, LLC, Reeseville, Wisconsin | July 24, 2006.
WI-149 | Horst Stables, LLC, Thorp, Wisconsin | July 15, 2006.

This document also notifies the public that the following facilities, which previously met the definition of a stockyard, were not posted. We published notices proposing to post these three stockyards on July 25, 2005, and April 5, 2006 (70 FR 42532-42533 and 71 FR 17071-17072, respectively). The facilities were not posted because they no longer meet the definition of a stockyard. The facilities were either abandoned or underwent a change so that they no longer function as a stockyard.

Facility number | Stockyard name and location
AR-177 | Morrilton Horse Sale, Morrilton, Arkansas.
GA-227 | Friendship Farm Livestock Auction, Bartow, Georgia.
IN-168 | Hardinsburg Horse Sales, Hardinsburg, Indiana.

Additionally, this document notifies the public that the following two stockyards no longer meet the definition of a stockyard and that we are deposting them. We depost stockyards when the facility can no longer be used as a stockyard. Some of the reasons a facility can no longer be used as a stockyard include: the market agency has moved and the posted facility is abandoned, the facility has been torn down or otherwise destroyed, such as by fire, the facility is dilapidated beyond repair, or the facility has been converted and its function changed.

Facility number | Stockyard name and location | Date posted
ID-118 | Rexburg Livestock Company, Rexburg, Idaho | April 3, 1950.
WA-112 | Marysville Livestock Auction, Inc., Marysville, Washington | February 27, 1962.

Effective Date

These depostings are effective upon publication in the Federal Register because they relieve a restriction and, therefore, may be made effective in less than 30 days after publication in the Federal Register without prior notice or other public procedure.

Authority: 7 U.S.C. 202.

James E. Link,
Administrator, Grain Inspection, Packers and Stockyards Administration.

[FR Doc. 07-257 Filed 1-22-07; 8:45 am]

BILLING CODE 3410-KD-P